NATIONAL SCIENCE FOUNDATION

Advisory Committee for Environmental Research and Education (AC-ERE); Notice of Meeting

In accordance with the Federal Advisory Committee Act (Pub. L. 92-463, as amended), the National Science Foundation announces the following meeting:

Name: Advisory Committee for Environmental Research and Education (9487).

Dates: April 14, 2004, 8 a.m.-5 p.m. and April 15, 2004, 8 a.m.-2:30 p.m.

Place: Stafford I, Room 1235, National Science Foundation, 4201 Wilson Blvd., Arlington, Virginia 22230.

Type of Meeting: Open.

Contact Person: Dr. Margaret Cavanaugh, Office of the Director, National Science Foundation, Suite 1205, 4201 Wilson Blvd., Arlington, Virginia 22230. Telephone: 703-292-8002.

Minutes: May be obtained from the contact person listed above.

Purpose of Meeting: To provide advice, recommendations, and oversight concerning support for environmental research and education.

Agenda: April 14—Update on recent NSF environmental activities Report on the Biocomplexity in the Environment Committee of Visitors (BE-COV) Meeting.

Discussion of ACERE projects, such as occasional papers Panel presentations and discussion on “Integrating Environmental Observing Systems for Complex Environmental Systems.”

April 15—AC-ERE task group meetings and reports Presentation on “Green Energy Production from Wastes using Bacteria.”

Meeting with the Acting Director or Deputy Director.

Dated: March 9, 2004.
Susanne Bolton,
Committee Management Officer.

[FR Doc. 04-5661 Filed 3-11-04; 8:45 am]

BILLING CODE 7555-01-M